DEPARTMENT OF COMMERCE

International Trade Administration

A-570-912

Certain New Pneumatic Off-The-Road Tires from the People's Republic of China: Notice of Decision of the Court of International Trade Not in Harmony

AGENCY: Import Administration, International Trade Administration, Department of Commerce.

SUMMARY: On May 14, 2010, the United States Court of International Trade (“CIT”) sustained the final remand redetermination made by the Department of Commerce (“Department”) pursuant to the CIT's remand of the final determination in the antidumping investigation on certain new pneumatic off-the-road tires (“OTR tires”) from the People's Republic of China (“PRC”). See Bridgestone Americas Inc. v. United States, Consol. Ct. No. 08-00256, Slip Op. 10-55 (Ct. Int'l Trade May 14, 2010) (“Bridgestone”). This case arises out of the Department's Final Determination in the antidumping investigation on OTR tires from the PRC. See Certain New Pneumatic Off-The-Road-Tires from the People's Republic of China: Final Affirmative Determination of Sales at Less Than Fair Value and Partial Affirmative Determination of Critical Circumstances, 73 FR 40485 (July 15, 2008) (“Final Determination”); Certain New Pneumatic Off-the-Road Tires from the People's Republic of China: Notice of Amended Final Affirmative Determination of Sales at Less than Fair Value and Antidumping Duty Order, 73 FR 51624 (September 4, 2008). The final judgment in this case was not in harmony with the Department's July 2008 final determination.

EFFECTIVE DATE: May 24, 2010

FOR FURTHER INFORMATION CONTACT: Lilit Astvatsatrian or Charles Riggle, AD/CVD Operations, Office 8, Import Administration, International Trade Administration, U.S. Department of Commerce, 14th Street and Constitution Avenue, NW, Washington DC 20230; telephone (202) 482-6412 or (202) 482-0650, respectively.

SUPPLEMENTARY INFORMATION: In July 2008, the Department published in the Federal Register the Final Determination in the antidumping investigation on OTR tires from the PRC in which it calculated a zero dumping rate for respondent Xugong Tyres Co., Ltd. (“Xugong”).

In August 2008, petitioners, Bridgestone Americas, Inc. and Bridgestone Americas Tire Operations, LLC (collectively, “Bridgestone”) and Titan Tire Corporation (“Titan”), respectively, filed summons with the CIT challenging the Final Determination with respect to Xugong's zero dumping margin. Among their claims, Bridgestone and Titan alleged that the Department erred in its Final Determination by treating as indirect materials certain inputs used by Xugong in the production of subject merchandise.

In April 2009, the Department requested a voluntary remand to further explain its determination regarding the classification of the fifteen raw materials reported by Xugong as indirect materials. On August 4, 2009, the CIT remanded this matter to the Department to reconsider whether each of the fifteen inputs was a direct or indirect material, to reopen the record as appropriate, and to recalculate the margin accordingly. See Bridgestone Americas Inc. v. United States, Consol. Ct. No. 08-00256, Slip Op. 09-79 (Ct. Int'l Trade Aug. 4, 2009).

After receiving comments on the draft remand results, the Department on January 7, 2010, issued its final remand redetermination in which it treated Xugong's fifteen raw material inputs as direct materials and, thus, recalculated Xugong's margin by adding Xugong's fifteen raw materials as direct material inputs in the calculation of the normal value. As a result of this recalculation, Xugong's dumping rate changed from 0.00 percent to 10.01 percent. See Bridgestone Americas Inc. v. United States, Consol. Ct. No. 08-00256, dated January 8, 2010.

On May 14, 2010, the CIT sustained the final redetermination made by the Department pursuant to the CIT's remand of the final determination in the antidumping investigation of the OTR tires from the PRC. See Bridgestone, Slip Op. 10-55 at 14.

Timken Notice

In its decision in Timken Co. v. United States, 893 F. 2d 337, 341 (Fed. Cir. 1990) (“Timken”), the United States Court of Appeals for the Federal Circuit held that, pursuant to section 516A(e) of the Tariff Act of 1930, as amended (“the Act”), the Department must publish a notice of a court decision that is not “in harmony” with a Department determination and must suspend liquidation of entries pending a “conclusive” court decision.

The Court's decision in Bridgestone on May 14, 2010, constitutes a final decision of that court that is not in harmony with the Department's Final Determination. This notice is published in fulfillment of the publication requirements of Timken with an effective date of May 24, 2010 (i.e., 10 days following the CIT's ruling). Accordingly, the Department will direct the U.S. Customs and Border Protection (“CBP”) effective May 24, 2010, to suspend liquidation of entries of subject merchandise manufactured and exported by Xugong pending the expiration of the period to appeal or pending a final decision on appeal. The Department will issue revised instructions to CBP if the Court's decision is not appealed or if it is affirmed on appeal.

This notice is issued and published in accordance with section 516A(c)(1) of the Act.

Dated: May 26, 2010.
Paul Piquado,
Acting Deputy Assistant Secretary for Import Administration.

[FR Doc. 2010-13375 Filed 6-2-10; 8:45 am]

BILLING CODE 3510-DS-S